DEPARTMENT OF DEFENSE

Office of the Secretary

Submission for OMB Review; Comment Request

ACTION: Notice.

The Department of Defense will submit to OMB for emergency processing, the following proposal for collection of information under the provisions of the Paperwork Reduction Act (44 U.S.C. Chapter 35).

Title and OMB Number: TRICARE for Life Beneficiary Information Update Form; OMB Number 0720-[To Be Determined].

Type of Request: New Collection; Emergency processing requested with a shortened public comment period ending May 22, 2001. An approval date by May 25, 2001 has been requested.

Number of Respondents: 1,200,000.

Responses per Respondent: 1.

Annual Responses: 1,200,000.

Average Burden per Response: 5 minutes.

Annual Burden Hours: 99,600.

Needs and Uses: The Department of Defense (DoD), TRICARE Management Activity, will collect Medicare and other health insurance information in support of the TRICARE for Life Program. This information is necessary to allow the Department to accurately interface with Medicare to validate Medicare Part A and Part B coverage in accordance with the National Defense Authorization Act for Fiscal Year 2001, prior to extending TRICARE's health benefits to TRICARE eligible beneficiaries. Additionally, DoD will collect other health insurance information prospectively to allow the accurate adjudication of claims for health benefits. Other health insurance information is routinely collected during the health care claims adjudication process; however, delaying the collection of this information for approximately 1.5 million new TRICARE for Life beneficiaries will result in very significant delays in the adjudication of TRICARE for Life medical claims. As such, the Department will request Medicare and other health insurance information from TRICARE for Life beneficiaries early this summer to maximize the delivery of health care financing service provided TRICARE for Life beneficiaries on October 1, 2001. It is important to note that no benefits will be denied as a result of a beneficiary electing not to provide the information. The Department will implement normal processes foe obtaining the required information during the claims adjudication process for any beneficiary who elects not to provide the information prospectively.

Affected Public: Individuals or Households.

Frequency: One-Time.

Respondent's obligation: Voluntary.

OMB Desk Officer: Mr. Stuart Shapiro.

Written comments and recommendation on the proposed information collection should be sent to Mr. Shapiro at the Office of Management and Budget, Desk Officer for DoD (Health Affairs), Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302, or by fax at (703) 604-6270.

Dated: May 4, 2001.
Patricia L. Toppings,
Alternate OSD Federal Register Liaison Officer, Department of Defense.

[FR Doc. 01-11966 Filed 5-11-01; 8:45 am]

BILLING CODE 5001-08-M